DEPARTMENT OF DEFENSE

Department of the Army

Privacy Act of 1974; System of Records

AGENCY: Department of the Army, DOD.

ACTION: Notice to add a system of records.

SUMMARY: The Department of the Army is proposing to add a system of records notice to its existing inventory of record systems subject to the Privacy Act of 1974, (5 U.S.C. 552a), as amended.

DATES: This proposed action will be effective without further notice on September 4, 2002 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on July 22, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 30, 2002.
Patricia L. Toppings,
Alternate OSD Federal Register Liaison Officer, Department of Defense.

A0040-5a DASG

System name:

DoD Health Surveillance/Assessment Registries.

System location:

U.S. Army Center for Health Promotion and Prevention Medicine, 5158 Blackhawk Road, Aberdeen Proving Ground, MD 21010-5403; and

Army Medical Surveillance Activity, Building T-20, Room 213, 6900 Georgia Avenue, NW, Washington, DC 20307-5001.

Categories of individuals covered by the system: Any individual that participates in a DoD health survey.

Categories of records in the system:

Information in this system of records originates from health surveys/assessments (e.g., Pentagon Post Disaster Health Assessment) conducted by or for the Department of Defense. Records being maintained include individual's name, Social Security Number, date of birth, sex, branch of service, home address, age, medical treatment facility, condition of medical and physical health and capabilities, responses to survey questions, register number assigned, and similar records, information and reports, relevant to the various registries, (e.g., cancer, Human Immunodeficiency Virus (HIV), serum repository).

Authority for maintenance of the system:

5 U.S.C. 301, Departmental Regulations; 10 U.S.C. 136, Under Secretary of Defense for Personnel and Readiness; 10 U.S.C. 3013, Secretary of the Army, 10 U.S.C. 8013, Secretary of the Air Force, 10 U.S.C. 5013, Secretary of the Navy; DoD Instruction 1100.13, Surveys of DoD Personnel; DoD Directive 6490.2, Joint Medical Surveillance; DoD Directive 6490.3, Implementation and Application of Joint Medical Surveillance for Deployments; and E.O. 9397 (SSN).

Purpose(s):

To record, store and document injury, illness and exposure to chemical/biochemical elements, and collect data for statistical purposes. To enhance efficient management practices and effective analysis and comparisons of statistical data utilized in the public health assessment data registry.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

Information is retrieved by individual's name, Social Security Number, and registry number.

Safeguards:

Records are maintained within secured buildings in areas accessible only to persons having official need, and who therefore are properly trained and screened. Automated segments are protected by controlled system passwords governing access to data.

Retention and disposal:

Records are destroyed when no longer needed for reference and for conducting business.

System manager(s) and address:

Commander, U.S. Army Center for Health Promotion and Prevention Medicine, 5158 Blackhawk Road, Aberdeen Proving Ground, MD 21010-5403.

Notification procedure:

Individuals seeking to determine whether information about themselves is contained in this system should address written inquiries to the Commander, U.S. Army Center for Health Promotion and Prevention Medicine, 5158 Blackhawk Road, Aberdeen Proving Ground, MD 21010-5403.

For verification purposes, individual should provide the full name, Social Security Number, details which will assist in locating record, and signature.

Record access procedures:

Individuals seeking access to information about themselves contained in this system should address written inquiries to the Commander, U.S. Army Center for Health Promotion and Prevention Medicine, 5158 Blackhawk Road, Aberdeen Proving Ground, MD 21010-5403.

For verification purposes, individual should provide the full name, Social Security Number, details which will assist in locating record, and signature.

Contesting record procedures:

The Army's rules for accessing records, and for contesting contents and appealing initial agency determinations are contained in Army Regulation 340-21; 32 CFR part 505; or may be obtained from the system manager.

Record source categories:

From the individual and mortality reports.

Exemptions claimed for the system:

None.

[FR Doc. 02-19605 Filed 8-2-02; 8:45 am]

BILLING CODE 5001-08-P